ENVIRONMENTAL PROTECTION AGENCY

[EPA-HQ-OPP-2013-0254; FRL-9390-1]

Amendment of an Experimental Use Permit

AGENCY: Environmental Protection Agency (EPA).

ACTION: Notice.

SUMMARY: EPA has received an amendment to a pending experimental use permit (EUP) from the pesticide applicant. An EUP permits use of a pesticide for experimental or research purposes only in accordance with the limitations in the permit.

FOR FURTHER INFORMATION CONTACT: Shanaz Bacchus, Biopesticides and Pollution Prevention Division (7511P), Office of Pesticide Programs, Environmental Protection Agency, 1200 Pennsylvania Ave. NW., Washington, DC 20460-0001; telephone number: (703) 308-8097; email address: bacchus.shanaz@epa.gov.

SUPPLEMENTARY INFORMATION:

I. General Information

A. Does this action apply to me?

This action is directed to the public in general. Although this action may be of particular interest to those persons who conduct or sponsor research on pesticides, the Agency has not attempted to describe all the specific entities that may be affected by this action.

B. How can I get copies of this document and other related information?

The docket for this action, identified by docket identification (ID) number EPA-HQ-OPP-2013-0254, is available at http://www.regulations.gov or at the Office of Pesticide Programs Regulatory Public Docket (OPP Docket) in the Environmental Protection Agency Docket Center (EPA/DC), EPA West Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUP

EPA has received the following amendment to the pending EUP: 89668-EUP-R. Submitter: Robert I. Rose, Ph.D., on behalf of James Mains, Ph.D., Mosquito Mate, Inc., 1122 Oak Hill Drive, Lexington, KY 40505-3322. Active ingredient: Wolbachia pipientis (now identified as ZAP strain). Type of active ingredient: Microbial Insecticide. Summary of amendment request: On May 1, 2013, EPA published in the Federal Register (78 FR 25436; EPA-HQ-OPP-2013-0254) a Notice of Receipt of an application for an EUP, EPA File Symbol 89668-EUP-R. On May 22, 2013, the applicant submitted an amendment to that application for an EUP. The original application specified the release of 30,000 mosquitoes in Kentucky (0.7 acre). The applicant now intends to release 100,000 male Aedes albopictus mosquitoes infected with the Wolbachia pipientis ZAP strain microbial pesticide per week during the mosquito season over a 2-year period and monitor areas in neighborhoods of California (1205 acres); Florida (180 acres); Kentucky (337 acres) and New York (337 acres) as specified in the Section G descriptions in the docket. There are no other changes to the original application. The released male mosquitoes are expected to mate with indigenous female Aedes albopictus causing conditional sterility and resulting in mosquito population decline. Adult and egg collection data from treated areas will be compared to those in untreated control sites to examine for the effect of the released product.

A copy of the amended application and any information submitted is available for public review in the docket established for this EUP application. Following the review of the amended application, EPA will decide whether to issue or deny the amended EUP request, and if issued, the conditions under which it is to be conducted. Any issuance of an EUP will be announced in the Federal Register.

Authority: 7 U.S.C. 136c.

List of Subjects

Environmental protection, Experimental use permits.

Dated: June 7, 2013.
Daniel J. Rosenblatt,
Acting Director, Registration Division, Office of Pesticide Programs.

[FR Doc. 2013-14479 Filed 6-17-13; 8:45 am]

BILLING CODE 6560-50-P